DEPARTMENT OF COMMERCE

National Oceanic and Atmospheric Administration

[I.D. 060706A]

Endangered and Threatened Species; Take of Anadromous Fish

AGENCY: National Marine Fisheries Service (NMFS), National Oceanic and Atmospheric Administration (NOAA), Commerce.

ACTION: Receipt of application for renewal of scientific research/enhancement permit; request for comments.

SUMMARY: Notice is hereby given that NMFS has received an application to renew a permit from Dr. Lisa Thompson, Davis, CA (Permit (1435). This permit would affect Southern Oregon/Northern California Coast (SONCC) coho salmon (Oncorhynchus kisutch). This document serves to notify the public of the availability of the permit application for review and comment before a final approval or disapproval is made by NMFS.

DATES: Written comments on the permit application must be received at the appropriate address or fax number (see ADDRESSES) no later than 5 p.m. daylight savings time on July 19, 2006.

ADDRESSES: Written comments on this renewal request should be sent to the appropriate office as indicated below. Comments may also be sent via fax to the number indicated for the request. Comments will not be accepted if submitted via e-mail or the internet. The applications and related documents are available for review in the indicated office, by appointment: For Permit 1435: Steve Liebhardt, Protected Species Division, NOAA Fisheries, 1655 Heindon Road, Arcata, CA 95521 (ph: 707-825-5186, fax: 707-825-4840).

FOR FURTHER INFORMATION CONTACT: Steve Liebhardt by phone 707-825-5186, or by e-mail: FRNpermits.ar@noaa.gov.

SUPPLEMENTARY INFORMATION:

Authority

Issuance of permits and permit renewals, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and renewals are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following threatened salmonid ESU: Southern Oregon/Northern California Coast (SONCC) coho salmon (Oncorhynchus kisutch).

Renewal Requests Received for Permit (1435)

Dr. Thompson has requested a renewal of Permit 1072 for take of SONCC coho salmon associated with studies to monitor juvenile coho distribution, movment and habitat use in the Shasta River. Proposed capture methods are by minnow trap. Permit 1435 was originally issued to Dr. Thompson on March 18, 2004. Dr. Thompson is currently authorized take of up to 952 juvenile coho salmon. Dr. Thompson has requested to renew Permit 1435, and continue the study. Renewal of Permit 1435 will expire December 31, 2009.

Dated: June 13, 2006.
Angela Somma,
Chief, Endangered Species Division, Office of Protected Resources, National Marine Fisheries Service.

[FR Doc. E6-9493 Filed 6-16-06; 8:45 am]

BILLING CODE 3510-22-S